DEPARTMENT OF DEFENSE

Office of the Secretary

[Docket ID: DoD-2021-OS-0074]

Proposed Collection; Comment Request

AGENCY: Office of the Under Secretary of Defense for Personnel and Readiness, Department of Defense (DoD).

ACTION: Information collection notice.

SUMMARY: In compliance with the Paperwork Reduction Act of 1995, the Office of the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 21, 2021.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Ms. Angela Duncan at the Department of Defense, Washington Headquarters Services, ATTN: Executive Services Directorate, Directives Division, 4800 Mark Center Drive, Suite 03F09-09, Alexandria, VA 22350-3100 or call 571-372-7574.

SUPPLEMENTARY INFORMATION: Title; Associated Form; and OMB Number: Medical Screening of Military Personnel-Medical History Report and Accession Medical History Report; DD Form 2807-1/DD Form 2807-2; OMB Control Number 0704-0413.

Needs and Uses: This information collected is the basis for determining medical eligibility of applicants for entry in the Armed Forces. This information is needed to determine the medical qualifications of applicants based upon their current and past medical history. The information obtained on the DD Form 2807-2 ensures the recruiter that an applicant have identified any medical disqualifying condition(s) prior to application process and meets the Congressional requirements to obtain both the applicants Health Care provider and Insurance provider. Additionally, it allows the military examining physician to obtain medical records critical to evaluating the applicant's medical condition(s) prior to their medical examination. The DD Form 2807-1 is needed as part of the required medical examination to assist physicians in making determinations as to acceptability of applicants for military service and verifies disqualifying medical condition(s) noted on the accession medical history report form.

Affected Public: Individuals or households.

Annual Burden Hours: 128,834 hours.

Number of Respondents: 773,003.

Responses per Respondent: 1.

Annual Responses: 773,003.

Average Burden per Response: 10 minutes.

Frequency: On occasion.

Dated: July 20, 2021.
Aaron T. Siegel,
Alternate OSD Federal Register, Liaison Officer, Department of Defense.

[FR Doc. 2021-15757 Filed 7-22-21; 8:45 am]

BILLING CODE 5001-06-P